DEPARTMENT OF THE INTERIOR

Bureau of Land Management

[ID-080-1210-PG]

Upper Columbia—Salmon Clearwater District, Idaho; Notice of Resource Advisory Council Meeting

SUMMARY: In accordance with the Federal Land Policy and Management Act and the Federal Advisory Committee Act of 1972 (FACA), 5 U.S.C. Appendix, the Bureau of Land Management (BLM) announces the meeting of the Upper Columbia—Salmon Clearwater District Resource Advisory Council (RAC) on Wednesday, June 13, 2001 and Thursday, June 14, 2001 in Missoula, Montana.

Agenda items include: fire and fuels management; election of officers; and identification of future issues. The meeting will begin at 1:00 p.m. (MDT), June 13, 2001 at the C'mon Inn, 2775 Expo Parkway, Missoula, Montana. The public may address the Council during the public comment period from 3:00 p.m.-3:30 p.m. on June 13, 2001.

SUPPLEMENTARY INFORMATION: All Resource Advisory Council meetings are open to the public. Interested persons may make oral statements to the Council, or written statements may be submitted for the Council's consideration. Depending on the number of persons wishing to make oral statements, a per-person time limit may be established by the District Manager.

The Council's responsibilities include providing recommendations concerning long-range planning and establishing resource management priorities.

FOR FURTHER INFORMATION CONTACT: Ted Graf (208) 769-5004.

Dated: May 18, 2001.
Ted Graf,
Acting District Manager.

[FR Doc. 01-13590 Filed 5-30-01; 8:45 am]

BILLING CODE 4310-GG-P